DEPARTMENT OF AGRICULTURE

Forest Service

Request for Proposals for Woody Biomass Utilization Grant—Hazardous Fuel Reduction on National Forest System Lands

AGENCY: Forest Service, USDA.

ACTION: Request for proposals.

SUMMARY: As part of implementing the Administration's Healthy Forest Restoration Initiative, the USDA Forest Service, Forest Products Laboratory, requests proposals for forest products projects that increase the use of woody biomass from national forest lands. The woody biomass utilization grant program is intended to help improve utilization of, and create markets for, small-diameter material and low-valued trees removed from hazardous fuel reduction activities. These funds are targeted to help communities, entrepreneurs, and others turn residues from hazardous fuel reduction projects into marketable forest products and/or energy products.

DATES: Pre-application Deadline: Close of business March 15, 2005.

Full application Deadline: Close of business May 16, 2005.

ADDRESSES: All pre- and full application packages must be sent to the following address: ATTN: Shawn Lacina, Grants and Agreements Specialist, Forest Products Laboratory, 507 Highland Ave., Madison, WI 53705-2398. More detailed information regarding what to include in the pre- and full application and definitions of terms are available electronically at http://www.fpl.fs.fed.us/tmu (under biomass grants). Paper copies of the information also are available by contacting the USDA Forest Service, Forest Products Laboratory.

FOR FURTHER INFORMATION CONTACT: For general questions, please contact Shawn Lacina, Grants and Agreements Specialist, via electronic mail at slacina@fs.fed.us, or via telephone at 608-231-9282. For technical questions, please contact Susan LeVan-Green, Program Manager, via electronic mail at slevan@fs.fed.us, or via telephone at 608-231-9504.

SUPPLEMENTARY INFORMATION: As authorized by Public Law 108-148, the Healthy Forest Restoration Act of 2003, the agency is looking for creative solutions to address the nationwide challenge in dealing with low-valued material removed from hazardous fuel reduction efforts. The woody biomass utilization grant program has a pre-application submission process, and upon notification, selected pre-applicants will be asked to submit a full-application. Goals of the grant program are the following:

• Help reduce management costs by increasing value of biomass and other forest products generated by hazardous fuel treatments.

• Create incentives and/or reduce business risk for increased use of biomass from National Forest lands (must include National Forest System lands; however, may also include other lands such as, Bureau of Land Management, Tribal, State, local, and private).

• Institute projects that target and help remove economic and market barriers to using small-diameter trees and woody biomass.

• Require a Forest Service letter of support for the hazardous fuels projects on National Forest System lands.

Woody Biomass Grants Program

1. Eligibility Information. a. Eligible Applicants. Eligible applicants are State, local, and Tribal governments, school districts, communities, non-profit organizations, businesses, companies, corporations, or special purpose districts, i.e., public utilities districts, fire districts, conservation districts, or ports.

b. Cost Sharing (Matching Requirement). Applicants must demonstrate a 20% match from non-Federal sources, which can include cash or in-kind contributions.

2. Duns Number. All applicants must include a Dun and Bradstreet (D&B), Data Universal Numbering System (DUNS) number in their full application. For the purpose of this requirement, the applicant is the entity that meets the eligibility criteria and has the legal authority to apply for an award. For assistance in obtaining a DUNS number at no cost, call the DUNS number request line (1-866-705-5711) or register on-line at https://eupdate.dnb.com/requestoptions/government/ccrreg/.

3. Award Information. Up to $4.4 million is available for granting under this program. Individual grants or awards will not be less than $50,000 or more than $250,000. Successful applicants will be announced by June 1, 2005. The maximum length of the award is 3 years from the date of award. Written, quarterly financial and semi-annual performance reports will be required.

4. Application Review Process. A two-step technical evaluation process will be used for applications submitted under this solicitation. The first step requires the applicant to submit a preliminary application (pre-application). Pre-applications will be evaluated on the criteria discussed in section 5.

A review panel, consisting of technical experts from Federal agencies, will judge the pre-applications. Panel members will independently review the pre-applications according to the criteria and weighting factors. A total of 100 points is possible. As a result of this preliminary review, successful applications will be invited to submit a full-application package or be removed from further consideration for funding under this solicitation. In either case, a letter of notification will be provided to each applicant.

The second step requires the applicant to submit a full-application package, which will be evaluated based on the same criteria as the preliminary application; namely, the criteria and point system listed on the Forest Products Laboratory's Web site at http://www.fpl.fs.fed.us/tmu (under biomass grants).

The full-application package will be evaluated using a two-tiered review system. The first tier involves technical reviews; the second tier involves financial review. Recommendations from the two-tier review will be discussed, ranked, and recommendations made to the Executive Steering Committee, consisting of Federal officials, for final selection.

5. Evaluation Criteria and Point System

a. Impact on National Forest System hazardous fuel reduction projects—Weight 40%.

• Condition Class, with higher condition classes receiving more points than the lower condition classes.

• Direct, tangible benefits with and without the grant (increased acres treated for hazardous fuel treatments, increased value of raw material removed from hazardous fuel treatments, cost per acre).

• Indirect, intangible benefit (such as air quality benefits, water quality benefits, socio-economic, wildlife habitat, and watershed improvements).

b. Technical Approach Work Plan—Weight 25%.

• Technical feasibility of the proposed work.

• Adequacy and completeness of the proposed tasks.

• Likelihood of meeting project objectives.

• Reasonableness of time schedule.

• Identified deliverables/tasks.

• Timeliness—timeframe of the project.

• Evaluation and monitoring.

c. Financial feasibility—Weight 25%.

• Realistic budget and timeframe.

• Thorough financial documentation.

• Level of match

d. Qualifications and experience of applicant—Weight 10%.

• Experience, capabilities (technical and managerial).

• Demonstrated capacity.

If there are no technical or financial problems for the project, full points will be given. If there are minor deficiencies, which could limit success, midway points will be given. If there are major deficiencies, which could render project unsuccessful, minimum points will be given.

6. Pre-Application Information

a. Pre-Application Submission. Pre-applications are required. Specific content and submission requirements for the pre-application are as follows: Each submittal must be composed of three (3) single-sided paper copies of the pre-application plus one (1) electronic copy on a CD or 3.5-inch diskette in Microsoft Word for PCs or pdf format. Paper copies of the pre-application must be on 8.5- by 11-inch plain white paper with a minimum font size of 11 letters per inch. Top, bottom, and side margins must be no less than three-quarters (¾) of an inch. All pages must be clearly numbered. The paper copies of the application package should be stapled with a single staple at the upper left-hand corner. No other bindings will be accepted.

b. Pre-Application Content. Assemble information in the following order: Cover page, project summary, project narrative, statement of need, project coordinator(s) and partner(s), goals and objectives, technical approach work plan, impact on National Forest System lands on hazardous fuels treatments, evaluation and monitoring, budget justification, budget requirements, and appendices. The project narrative should provide a clear description of the work to be undertaken and how it will be accomplished. It should address the technical merit review criteria listed in section 5.

The discussion of the impact on National Forest System lands is a critical component because these proposals are aimed at helping the Forest Service increase the number of acres treated under hazardous fuel treatments (as defined under the Healthy Forest Restoration Act, Pub. L. 108-148). Specifically, applicants should address how and by how much the project would decrease Forest Service hazardous fuel removal costs and/or increase the price one might offer for the biomass. Specifically, proposals should address the following:

• Condition class description.

• What is currently being done with hazardous fuel removals.

• What would be done with removals if grant is awarded.

• Anticipated outcomes and measures of success.

• Documentation of tangible benefits of project as a result of the award. Documentation on intangible benefits. Examples of the information requested are listed on the Forest Products Laboratory's Web site at http://www.fpl.fs.fed.us/tmu (under biomass grants).

• Long-Term Benefits of Project: Applicant should address the length of time that benefits and impacts are anticipated, whether or not the project will have long-term consequences (equipment improvements for long-term capacity to handle woody biomass), or just a one-time benefit, such as a subsidy, where benefits end when subsidy ends.

• Expansion capability: Does the project have the potential to expand the application to more forest treatment areas or to use more of the wood from treatments for higher valued uses?

A full description of each content item can be obtained on the Forest Product Laboratory's Web site at http://www.fpl.fs.fed.us/tmu (under biomass grants), or by calling the telephone number in the FOR FURTHER INFORMATION CONTACT section, or by writing to the address in the ADDRESSES section of this notice.

c. Pre-Application Delivery. Pre-applications must be received at Forest Products Laboratory no later than 5 p.m. Central Standard time on March 15, 2005; no exceptions will be allowed. All applicants must use certified or express mail service that allows tracking and documentation (e.g., Federal Express, U.S. Postal Service, United Parcel Service, or other) to submit their applications. Hand-delivered, e-mail, or fax applications will not be accepted. Please send pre-applications to the address listed in the ADDRESSES section of this notice.

7. Full Application Information. USDA Forest Service will request full applications only from those applicants selected in the pre-application process. Only full applications that have been requested by USDA Forest Service will be considered for funding under this solicitation.

a. Full Application Submission. Specific content and submission requirements for the full application are as follows: Each submittal must be composed of three (3) single-sided paper copies of the full application plus one (1) electronic copy on a CD or 3.5-inch diskette in Microsoft Word for PCs or pdf format. Paper copies of the full application must be on 8.5- by 11-inch plain white paper with a minimum font size of 11 letters per inch. Top, bottom, and side margins must be no less than three-quarters (¾) of an inch. All pages must be clearly numbered. The paper copies of the application package should be stapled with a single staple at the upper left-hand corner. Other bindings will not be accepted.

Page limitations refer to all files and associated documents, including attachments, graphics, footnotes, endnotes, bibliography, and any other pertinent documents, when printed in their entirety (single sided), unless otherwise indicated in this solicitation.

The project narrative should provide a clear description of the work to be undertaken and how it will be accomplished. It should address the technical merit review criteria listed in section 5.

b. Full Application Content. Assemble information in the following order: cover page, project summary, project narrative, statement of need, project coordinator(s) and partner(s), goals and objectives, technical approach work plan, impact on National Forest System lands on hazardous fuels treatments, environmental documentation, project work plan and timeline, social impacts, evaluation and monitoring, equipment description, budget justification, budget requirements, financial feasibility, and appendices.

Detailed financial information is requested to assess the potential and the capability of the applicant. This information will remain confidential. Business consultants and small business development centers can help applicants compile this information. Small business development centers are one source of assistance; their Web site is http://www.sba.gov/sbdc. For-profit applicants are required to submit a business plan consisting of the following elements: Management Plan, Marketing Plan, Proforma Statement, Project Break-Even Analysis, and a Sources and Uses Table. Non-profit applicants are required to submit a strategic plan consisting of the following elements: Scope of Work, Capability Statement, Implementation plan, Project Break-Even Analysis, and a Sources and Uses Table. Local, State, and tribal governments and special purpose districts are required to submit the following: scope of work, project work plan, and cost/benefit analysis (examples can be found at http://www.fpl.fs.fed/tmu (under biomass grants).

c. Full Application Delivery. Full applications must be received at the Forest Products Laboratory no later than 5 p.m., Central Standard time on May 16, 2005; no exceptions will be allowed. All applicants must use certified or express mail service that allows tracking and documentation (e.g., Federal Express, U.S. Postal Service, United Parcel Service, or other) to submit their applications. Hand-delivered, e-mail, or fax applications will not be accepted. Please send full applications to the address provided in the ADDRESSES section of this notice.

8. Appendices. The following information must be included in the appendix of the pre-application and the full-application package:

a. Letter of support and biomass availability from local USDA Forest Service District Ranger or Forest Supervisor: This letter must describe the status of NEPA, acres, timeframes, available volumes, and opportunities for applicant to access these volumes.

b. Letters of Support from Partners, Individuals, or Organizations: Letters of support should be included in an appendix and are intended to display the degree of collaboration occurring between the different entities engaged in the project. These letters must include commitments of cash or in-kind services from all partners and must support the amounts listed in the budget. Each letter of support should be limited to one (1) page in length.

c. Key Personnel Qualifications: Qualifications of the project manager should be included in an appendix. Qualifications are limited to two (2) pages in length and should contain the following: resume, biographical sketch, references, and demonstrated ability to manage the grant.

Dated: February 3, 2005.
Bov B. Eav,
Associate Deputy Chief for Reserach & Development.

[FR Doc. 05-2562 Filed 2-9-05; 8:45 am]

BILLING CODE 3410-11-P